DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for domestic and foreign licensing by the Department of the Navy.

The following patents are available for licensing:

U.S. Patent No. 6,018,502: LONG LIFE COAXIAL SPARKER FOR UNDERWATER SOUND SOURCE.//U.S. Patent No. 6,032,567: SURF ZONE MINE CLEARANCE.//U.S. Patent No. 6,037,031: FLOTATION SEAWAY.//U.S. Patent No. 6,039,193: INTEGRATED AND AUTOMATED CONTROL OF A CRANE'S RIDER BLOCK TAGLINE SYSTEM.//U.S. Patent No. 6,039,445: AFOCAL WATER-AIR LENS WITH GREATLY REDUCED LATERAL COLOR ABERRATION.//U.S. Patent No. 6,052,485: FRACTAL FEATURES USED WITH NEAREST NEIGHBOR CLUSTERING FOR IDENTIFYING CLUTTER IN SONAR IMAGES.//U.S. Patent No. 6,058,071: MAGNETO-INDUCTIVE SUBMARINE COMMUNICATIONS SYSTEM AND BUOY.//U.S. Patent No. 6,065,186: FORCE LIMITING TAPERED SHEAR STOP.//U.S. Patent No. 6,065,896: LEVER DEVICE WITH SUPPORT AND LATCH.//U.S. Patent No. 6,082,266: AIR-CUSHION AND ACCURATE MINE LAYING AND MAPPING SYSTEM.//U.S. Patent No. 6,082,675: STANDOFF DELIVERED SONOBUOY.//U.S. Patent No. 6,093,069: LOW WATCH CIRCLE BUOY SYSTEM.//U.S. Patent No. 6,096,085: COMPUTER-READABLE SOFTWARE AND COMPUTER-IMPLEMENTED METHOD FOR PERFORMING AN INTEGRATED SONAR SIMULATION.//U.S. Patent No. 6,097,849: AUTOMATED IMAGE ENHANCEMENT FOR LASER LINE SCAN DATA.//U.S. Patent No. 6,108,457: BACKGROUND EQUALIZATION FOR LASER LINE SCAN DATA.//U.S. Patent No. 6,108,454: LINE CONTRAST DIFFERENCE EFFECT CORRECTION FOR LASER LINE SCAN DATA .//U.S. Patent No. 6,112,668: MAGNETO-INDUCTIVELY CONTROLLED LIMPET.//U.S. Patent No. 6,120,530: PASSIVE THERMAL CAPACITOR FOR COLD WATER DIVING GARMENTS.//U.S. Patent No. 6,130,642: METHOD AND SYSTEM TO IMPROVE GPS NAVIGATION.//U.S. Patent No. 6,145,441: FRANGIBLE PAYLOAD-DISPENSING PROJECTILE.//U.S. Patent No. 6,147,636: SYNTHETIC APERTURE PROCESSING FOR DIFFUSION- EQUATION-BASED TARGET DETECTION.//U.S. Patent No. 6,152,010: WIDE-AREA SLURRY MINE CLEARANCE.//U.S. Patent No. 6,151,882: TURBOFAN ENGINE CONSTRUCTION.//U.S. Patent No. 6,155,190: AIR CUSHION DRY DOCK TRANSPORT SYSTEM.//U.S. Patent No. 6,158,859: WINDOW HAVING ASPHERIC, AFOCAL LENS SYSTEM PROVIDING UNIT MAGNIFICATION BETWEEN AIR AND WATER.//U.S. Patent No. 6,164,229: AIR BEARING PONTOON SYSTEM FOR SHIPPING CONTAINERS.//U.S. Patent No. 6,181,644: DIVER MASK UNDERWATER IMAGING SYSTEM.//U.S. Patent No. 6,182,553: BOAT DEPLOYED EXPLOSIVE NET ASSEMBLY.//U.S. Patent No. 6,205,903: RELIABLE AND EFFECTIVE LINE CHARGE SYSTEM.//U.S. Patent No. 6,216,599: GROUND EFFECT TRANSPORT SYSTEM.//U.S. Patent No. 6,220,168: UNDERWATER INTELLIGENCE GATHERING WEAPON SYSTEM.//U.S. Patent No. 6,222,794: UNDERWATER NOISE GENERATOR ACTUATED BY MAGNETO-INDUCTIVE/ACOUSTIC SIGNALS.//U.S. Patent No. 6,222,928: UNIVERSAL IMPEDANCE MATCHER FOR A MICROPHONE-TO-RADIO CONNECTION.//U.S. Patent No. 6,223,659: LINE STORAGE DEVICE FOR PREVENTING LINE ENTANGLEMENT.//U.S. Patent No. 6,223,674: GENTILE PERFORMANCE WEDGE (GPW) SHOCK MITIGATION PLANNING BOAT HULL.//U.S. Patent No. 6,227,095: INSENSITIVE MUNITION BOOSTER SEAL.//U.S. Patent No. 6,230,629: RAPID IGNITION INFRARED DECOY FOR ANTI-SHIP MISSILE.//U.S. Patent No. 6,233,376: EMBEDDED FIBER OPTIC CIRCUIT BOARDS AND INTEGRATED CIRCUITS.//U.S. Patent No. 6,235,148: CHEMILUMINESCENT PHOTO-CURABLE ADHESIVE CURING AND BONDING SYSTEM.//U.S. Patent No. 6,247,410: HIGH-OUTPUT INSENSITIVE MUNITION DETONATING CORD.//U.S. Patent No. 6,253,450: LINE CHARGE FABRICATION AND PROCEDURES.//U.S. Patent No. 6,253,679: MAGNETO-INDUCTIVE ON-COMMAND FUZE AND FIRING DEVICE.//U.S. Patent No. 6,254,445: INFLATABLE CHEMICAL FOAM INJECTED BUOY.//U.S. Patent No. 6,255,980: RADAR-ACOUSTIC HYBRID DETECTION SYSTEM FOR RAPID DETECTION AND CLASSIFICATION OF SUBMERGED STATIONARY ARTICLES.//U.S. Patent No. 6,259,653: PORTABLE ENCAPSULATED UNDERWATER ULTRASONIC CLEANER.//U.S. Patent No. 6,264,543: MEAT TENDERIZATION AND STERILIZATION USING AXIAL PLANER SHOCKWAVES.//U.S. Patent No. 6,293,202: PRECISION AIRBORNE DEPLOYED GPS GUIDED STANDOFF TORPEDO.//

ADDRESSES: Requests for copies of the patents cited should be directed to Coastal Systems Station, Dahlgren Division, NSWC, 6703 W. Hwy 98, Code XP01L, Panama City, FL 32407-7001.

FOR FURTHER INFORMATION CONTACT: Mr. Harvey A. Gilbert, Counsel, Coastal Systems Station, 6703 W. Hwy 98, Code XP01L, Panama City, FL 32407-7001, telephone (850) 234-4646.

Authority: 35 U.S.C. 207, 37 CFR Part 404.

Dated: May 22, 2002.
R.E. Vincent II,
Lieutenant Commander, Judge Advocate General's Corps, U.S. Navy, Federal Register Liaison Officer.

[FR Doc. 02-14714 Filed 6-11-02; 8:45 am]

BILLING CODE 3810-FF-M